DEPARTMENT OF THE INTERIOR

Bureau of Land Management

[CA-930-04-1150-JP]

Notice of Proposed Supplementary Rules for Public Land on Quail Ridge, Napa County, CA

AGENCY: Bureau of Land Management (BLM), Interior.

ACTION: Notice of proposed supplementary rules.

SUMMARY: BLM is proposing supplementary rules to prohibit the use of firearms and paintball weapons on 4 parcels of public land within the Quail Ridge Area, Napa County, California. The purpose of prohibiting the use of firearms and paintball weapons on these 4 small land parcels is to eliminate the risk to BLM and the Federal Government of firearm accident liability. The second purpose is to ensure that BLM is in compliance with a 1991 multi-landowner signed memorandum of agreement that established management practices at Quail Ridge.

DATES: You should submit your comments by July 16, 2004. In developing final supplementary rules, BLM may not consider comments postmarked or received in person or by electronic mail after this date.

ADDRESSES: Mail: Bureau of Land Management, Ukiah Field Office, 2550 North State Street, Ukiah, CA 95482.

Personal or messenger delivery: Bureau of Land Management, Ukiah Field Office, 2550 North State Street, Ukiah, CA 95482.

Internet e-mail: ca340@ca.blm.gov. (Include “Attn: Walter Gabler”)

FOR FURTHER INFORMATION CONTACT: Walter Gabler, Law Enforcement Ranger 707-468-4090, or by e-mail at wgabler@ca.blm.gov.

SUPPLEMENTARY INFORMATION: BLM manages 4 parcels at Quail Ridge: one is 360 acres, one is 78.38 acres, and the other two are 40 acres each. None of the parcels is contiguous to any of the others, and none of them has legal public access. The major land owners in this region, including the University of California at Davis, California Department of Fish and Game, Bureau of Reclamation, and all but 2 private land owners, have prohibited the use of firearms and paint ball weapons on their property. The lands subject to the proposed supplementary rules are described as follows: Mt. Diablo Meridian, Township 7 North Range 3 West Section 1, W½ Lot 2 in the NE¼, 38.38 acres; Section 1, W½ Lot 1 in the NE¼, 40 Acres; Section 2, SE¼NE¼, 40 Acres; Township 8 North Range 3 West Section 25, SE¼NE¼, S½NW¼, SW¼, W½SE¼, 360 Acres; Section 26, SE¼NE¼, 40 acres; Section 35, NE¼NE¼, 40 acres.

BLM proposes these supplementary rules under the authority of 43 CFR 8365.1-6. Any person who fails to comply with the supplementary rules may be subject to the penalties provided in 43 CFR 8360.0-7.

I. Public Comment Procedures

Electronic Access and Filing Address

You may view an electronic version of these proposed supplementary rules at BLM's Internet home page: www.blm.gov. You may also comment via the Internet to: ca340@ca.blm.gov. (Include “Attn: Walter Gabler”). Please also include your name and return address in your Internet message. If you do not receive a confirmation from the system that we have received your Internet message, contact us directly at 707-468-4000.

Written Comments

Written comments on the proposed supplementary rules should be specific, confined to issues pertinent to the proposed rules and should explain the reason for any recommended change. Where possible, comments should reference the specific section or paragraph of the proposal you are addressing. BLM may not necessarily consider or include in the Administrative Record for the final supplementary rules comments that BLM receives after the close of the comment period (see DATES) or comments delivered to an address other than those listed above (see ADDRESSES).

Comments, including names, streets addresses, and other contact information of respondents, will be available for public review at (2550 North State Street, Ukiah, CA 95482) during regular business hours (7:45 a.m. to 4:30 p.m.,), Monday through Friday, except Federal holidays. Individual respondents may request confidentiality. If you wish to request that BLM consider withholding your name, street address, and other contact information (such as: Internet address, FAX or phone number) from public review or from disclosure under the Freedom of Information Act you must state this prominently at the beginning of your comment. BLM will honor requests for confidentiality on a case-by-case basis to the extent allowed by law. BLM will not consider anonymous comments. BLM will make available for public inspection in their entirety all submissions from organizations or businesses, and from individuals identifying themselves as representatives or officials of organizations or businesses.

II. Discussion of the Supplementary Rules

These supplementary rules would apply to the public lands within the Mt. Diablo Meridian, Township 7 North Range 3 West Section 1, W½ Lot 2 in the NE¼, 38.38 acres; Section 1, W½ Lot 1 in the NE¼, 40 Acres; Section 2, SE¼NE¼, 40 Acres; Township 8 North Range 3 West Section 25, SE¼NE¼, S½NW¼, SW¼, W½SE¼, 360 Acres; Section 26, SE¼NE¼, 40 acres; Section 35, NE¼NE¼, 40 acres. The supplementary rules would prohibit the use of firearms and paintball weapons within the Quail Ridge Area.

III. Procedural Matters

Regulatory Planning and Review (E.O. 12866)

These supplementary rules are not significant and are not subject to review by the Office of Management and Budget under Executive Order 12866.

(1) The supplementary rules will not have an effect of $100 million or more on the economy. They will not adversely affect in a material way the economy, productivity, competition, jobs, the environment, public health or safety, or state, local or tribal governments or communities.

(2) The supplementary rules will not create a serious inconsistency or otherwise interfere with an action taken or planned by another agency.

(3) These supplementary rules do not alter the budgetary effects or entitlements, grants, user fees, or loan programs or the rights or obligations of their recipients.

(4) The supplementary rules do not raise novel legal or policy issues.

The supplementary rules contain rules of conduct for public use of a limited selection of public lands.

Regulatory Flexibility Act

The Department of the Interior certifies that these supplementary rules will not have a significant economic effect on a substantial number of small entities under the Regulatory Flexibility Act (5 U.S.C. 601 et sea.). The supplementary rules merely contain rules of conduct for public use of a limited selection of public lands.

Small Business Regulatory Enforcement Fairness Act (SBREFA)

These supplementary rules are not major under 5 U.S.C. 804(2), the Small Business Regulatory Enforcement Fairness Act. The rules:

Do not have an annual effect on the economy of $100 million or more.

Will not cause a major increase in costs or prices for consumers, individual industries, Federal, State, or local government agencies, or geographic regions.

Do not have significant adverse effects on competition, employment, investment, productivity, innovation, or the ability of U.S.-based enterprises to compete with foreign-based enterprises.

Unfunded Mandates Reform Act

These supplementary rules do not impose an unfunded mandate on state, local, or tribal governments or the private sector of more than $100 million per year. They do not have a significant or unique effect on state, local, or tribal governments or the private sector. The rules have no effect on governmental or tribal entities. The supplementary rules would impose no requirements on any of these entities. A statement containing the information required by the Unfunded Mandates Reform Act (2 U.S.C. 1531 et seq.) is not required.

National Environmental Policy Act

BLM has determined that these proposed supplementary rules, which would prohibit discharge of firearms and paintball weapons in public lands on Quail Ridge, qualify as policies, directives, regulations, or guidelines of an administrative, financial, legal, technical, or procedural nature. The subject area would still be open to other uses. The restriction would improve the protection of the resources. Therefore, they are categorically excluded from environmental review under section 102(2)(C) of the National Environmental Policy Act, pursuant to 516 Departmental Manual (DM), Chapter 2, Appendix 1. In addition, the interim final supplementary rules do not meet any of the 10 criteria for exceptions to categorical exclusions listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Executive Order 12630, Governmental Actions and Interference With Constitutionally Protected Property Rights (Takings)

The proposed supplementary rules do not represent a government action capable of interfering with Constitutionally protected property rights. The rules would apply only on public lands and would not affect the real or personal property of any individual or entity. Therefore, the Department of the Interior has determined that the supplementary rules would not cause a taking of private property or require further discussion of takings implications under this Executive Order.

Executive Order 13132, Federalism [Replaces Executive Orders 12612 and 13083.]

The proposed supplementary rules would not have a substantial direct effect on the states, on the relationship between the national government and the states, or on the distribution of power and responsibilities among the various levels of government. The supplementary rules would impose no requirements on states or have any effect on Federal-state relations. Therefore, in accordance with Executive Order 13132, BLM has determined that these proposed supplementary rules do not have sufficient Federalism implications to warrant preparation of a Federalism Assessment.

Executive Order 12988, Civil Justice Reform

Under Executive Order 12988, the Office of the Solicitor has determined that these proposed supplementary rules would not unduly burden the judicial system and that they meet the requirements of sections 3(a) and 3(b)(2) of the Order.

Executive Order 13175, Consultation and Coordination With Indian Tribal Governments [Replaces Executive Order 13084]

In accordance with Executive Order 13175, we have found that these supplementary rules do not include policies that have tribal implications. The supplementary rules would impose no requirements on tribes or tribal governments or have any effect on Federal-tribal relations. The prohibitions in the supplementary rules would apply equally to all persons, including Indian individuals, who visit or use the parcels of public land on which they apply.

Paperwork Reduction Act

These supplementary rules do not contain information collection requirements that the Office of Management and Budget must approve under the Paperwork Reduction Act of 1995, 44 U.S.C. 3501 et seq.

Author

The principal author of these supplementary rules is Walter Gabler, Law Enforcement Ranger at the Bureau of Land Management, Ukiah Field Office, California.

BLM proposes the following supplementary rules:

Supplementary Rules for Public Land on Quail Ridge, Napa County, California

Sec. 1 Prohibited acts.

a. You must not discharge firearms of any kind on public lands on Quail Ridge, Napa County, California.

b. You must not discharge paintball weapons on public lands on Quail Ridge, Napa County, California.

Sec. 2 Penalties.

Under section 303(a) of the Federal Land Policy and Management Act of 1976 (43 U.S.C. 1733(a)) and 43 CFR 8360.0-7 if you violate these supplementary rules on public lands within the boundaries established, you may be tried before a United States Magistrate and fined no more than $1,000 or imprisoned for no more than 12 months, or both. Such violations may also be subject to the enhanced fines provided for by 18 U.S.C. 3571.

Dated: June 9, 2004.
Rich Burns,
Field Manager, BLM Ukiah California.

[FR Doc. 04-13571 Filed 6-15-04; 8:45 am]

BILLING CODE 4310-40-M